FEDERAL COMMUNICATIONS COMMISSION

Notice of Public Information Collection(s) Being Reviewed by the Federal Communications Commission for Extension Under Delegated Authority, Comments Requested

March 26, 2008.

SUMMARY: The Federal Communications Commission, as part of its continuing effort to reduce paperwork burden, invites the general public and other Federal agencies to take this opportunity to comment on the following information collection(s), as required by the Paperwork Reduction Act of 1995 (PRA), 44 U.S.C. 3501-3520. An agency may not conduct or sponsor a collection of information unless it displays a current valid control number. No person shall be subject to any penalty for failing to comply with a collection of information subject to the PRA that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before June 2, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Leslie F. Smith, Federal Communications Commission, Room 1-C216, 445 12th Street, SW., Washington, DC 20554, or via the Internet to PRA@fcc.gov.

FOR FURTHER INFORMATION CONTACT: For additional information about the information collection(s), contact Leslie F. Smith via the Internet at PRA@fcc.gov or call (202) 418-0217.

SUPPLEMENTARY INFORMATION: OMB Control Number: 3060-1083.

Title: Request to Update Default Compensation Rate for Dial-Around Calls From Payphones, WC Docket No. 03-225.

Form Number: N/A.

Type of Review: Extension of a currently approved collection.

Respondents: Business or other for profit.

Number of Respondents and Responses: 10 respondents; 10 responses.

Estimated Time per Response: 100 hours.

Obligation to Respond: Voluntary.

Frequency of Response: One time reporting requirement.

Total Annual Burden: 1,000 hours.

Annual Cost Burden: $53,000.

Privacy Act Impact Assessment: No impacts.

Nature of Extent of Confidentiality: The Commission is not requesting that the respondents submit confidential information to the FCC. Respondents may, however, request confidential treatment for information they believe to be confidential under 47 CFR 0.459 of the Commission's rules.

Needs and Uses: Pursuant to Section 276(b)(1)(A) of the Act, the Commission is required to ensure that all payphone service providers are fairly compensated. In order to calculate fair compensation for the payphones that are not supported by Flex ANI, the Commission must obtain monthly payphone call volume data. Once the impacted entities (primarily the Regional Bell Operating Companies and the large interexchange companies) submit this data, the Commission will calculate an average monthly call volume as one of the key inputs required to establish per-payphone monthly compensation.

Federal Communications Commission.
William F Caton,
Deputy Secretary.

[FR Doc. E8-6663 Filed 4-2-08; 8:45 am]

BILLING CODE 6712-01-P